DEPARTMENT OF JUSTICE

Notice of Lodging of Proposed Third Amendment To Consent Decree Under the Comprehensive Environmental Response, Compensation, and Liability Act and the Resource Conservation and Recovery Act

On March 29, 2024, the Department of Justice lodged a proposed Third Amendment to a Consent Decree (“Amendment 3”) with the United States District Court for the Central District of California (“Court”) in the matter of United States of America and State of California on behalf of the Department of Toxic Substances Control and Toxic Substances Control Account vs. Abex Aerospace, et al., Civil Action No. 2:16-cv-02696 (C.D. Cal.).

This Amendment 3 amends Appendix D of the Consent Decree previously approved by the Court on March 31, 2017 (for which the Court also approved amendments on April 5, 2018, and June 10, 2020). The Consent Decree pertains to environmental contamination at Operable Unit 2 (“OU2”) of the Omega Chemical Corporation Superfund Site (“Site”) in Los Angeles County, California. Amendment 3 is for the purpose of adding additional settling parties to the Consent Decree and follows the mechanisms that the previously approved Consent Decree sets forth for adding additional settlors.

The Consent Decree resolves certain claims under Sections 106 and 107 of the Comprehensive Environmental Response, Compensation, and Liability Act and Section 7003 of the Resource Conservation and Recovery Act, as well as related state law claims, in connection with environmental contamination at OU2. Amendment 3 adds the following parties, each of which has owned or operated a facility within the commingled OU2 groundwater plume area, as Settling Cash Defendants:

1. Bodycote Thermal Processing, Inc.

2. Palmtree Acquisition Corporation

3. First Dice Road Company

4. Phibro-Tech, Inc.

5. Union Pacific Railroad Company

These parties are “Certain Noticed Parties” within the meaning of Paragraph 75 and Appendix G of the Consent Decree. This Amendment 3 requires the additional settling parties to pay $20,500,000 toward cleanup of the portion of the OU2 groundwater plume addressed by the Consent Decree.

The publication of this notice opens a period for public comment on the proposed Amendment 3, which is available for public review as described below. Comments should be addressed to the Assistant Attorney General, Environment and Natural Resources Division, and should refer to United States of America and State of California on behalf of the Department of Toxic Substances Control and Toxic Substances Control Account vs. Abex Aerospace, et al., D.J. Ref. No. 90-11-3-06529/15. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Under section 7003(d) of RCRA, a commenter may request an opportunity for a public meeting in the affected area. Any comments submitted in writing or at a public meeting may be filed by the United States in whole or in part on the public court docket without notice to the commenter.

During the public comment period, the lodged proposed Amendment 3 and the previously approved Consent Decree may be examined and downloaded at this Justice Department website: https://www.justice.gov/enrd/consent-decrees. If you require assistance accessing Amendment 3, you may request assistance by email or by mail to the addresses provided above for submitting comments.

Scott Bauer,
Assistant Section Chief, Environmental Enforcement Section, Environment and Natural Resources Division.

[FR Doc. 2024-07350 Filed 4-5-24; 8:45 am]

BILLING CODE 4410-15-P